DEPARTMENT OF LABOR

Employment and Training Administration

[TA-W-55,789]

Boston Scientific, Murrieta, CA; Notice of Termination of Investigation

Pursuant to Section 221 of the Trade Act of 1974, as amended, an investigation was initiated on October 14, 2004 in response to a worker petition filed by a company official on behalf of workers at Boston Scientific, Murrieta, California.

The petitioner has requested that the petition be withdrawn. Consequently, the investigation has been terminated.

Signed at Washington, DC this 22nd day of October, 2004.
Linda G. Poole,
Certifying Officer, Division of Trade Adjustment Assistance.

[FR Doc. E4-3028 Filed 11-4-04; 8:45 am]

BILLING CODE 4510-30-P